DEPARTMENT OF TRANSPORTATION

Federal Aviation Administration

14 CFR Part 71

[Airspace Docket No. 00-ANM-03]

Revision of Class D and Class E airspace, Great Falls International Airport, MT; Removal of Class D and Class E Airspace, Great Falls Malmstrom AFB, MT

AGENCY: Federal Aviation Administration (FAA), DOT.

ACTION: Final rule.

SUMMARY: This action amends the Great Falls International Airport Class D and E4 airspace areas and removes the Great Falls Malmstrom AFB Class D and E4 airspace areas. The reconfiguration of airspace is necessary due to the closure of the Malmstrom AFB. The realigned airspace will better serve the Great Falls International Airport, Great Falls, MT.

EFFECTIVE DATE: 0901 UTC, August 10, 2000

FOR FURTHER INFORMATION CONTACT: Brian Durham, ANM-520.7, Federal Aviation Administration, Docket No. 00-ANM-03, 1601 Lind Avenue SW, Renton, Washington 98055-4056; telephone number: (425) 227-2527.

SUPPLEMENTARY INFORMATION:

History

On February 29, 2000, the FAA proposed to amend Title 14, Code of Federal Regulations, part 71 (14 CFR part 71) by revising Class D and E4 airspace at Great Falls International Airport, Great Falls, MT and removing Class D and E4 airspace at Malmstrom AFB, Great Falls, MT in order to reconfigure airspace due to the closure of Malmstrom AFB (65 FR 10730). Interested parties were invited to participate in the rulemaking proceeding by submitting written comments on the proposal. No comments were received.

The Rule

This amendment to Title 14 Code of Federal Regulations, part 71 (14 CFR part 71) revises Class D and E4 airspace at Great Falls International Airport, Great Falls, MT and removes Class D and E4 airspace at Malmstrom AFB, Great Falls, MT in order to reconfigure airspace due to the closure of Malmstrom AFB. This amendment provides revised airspace at Great Falls, MT to better meet current airspace standards associated with established procedures at Great Falls International Airport. The FAA establishes airspace where necessary to contain aircraft transitioning between the terminal and en route environments. This amendment provides for the safe and efficient use of the navigable airspace. This amendment promotes safe flight operations under Instrument Flight Rules (IFR) and Visual Flight Rules (VFR) at the Great Falls International Airport, Great Falls, MT and between the terminal and en route transition stages.

The area will be depicted on aeronautical charts for pilot reference. The coordinates for this airspace docket are based on North American Datum 83. Class D surface airspace areas and Class E airspace areas designated as an extension to a Class D surface airspace, are published in Paragraph 5000 and Paragraph 6004, respectively, of FAA Order 7400.9G dated September 1, 1999 and effective September 16, 1999, which is incorporated by reference in 14 CFR 71.1. The Class D and Class E airspace designation listed in this document will be published subsequently in the Order.

The FAA has determined this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9G, Airspace Designations and Reporting Points, dated September 1, 1999, and effective September 16, 1999, is amended as follows:

Paragraph 5000 General.

* * * * *

ANM MT D Great Falls International Airport, MT [Revised]

Great Falls International Airport, MT

(Lat. 47°28′55″N, long. 111°22′14″W)

That airspace extending upward from the surface to and including 6,200 feet MSL within a 5.5-mile radius of the Great Falls International Airport.

* * * * *

ANM MT D Great Falls Malmstrom AFB, MT [Remove]

* * * * *

Paragraph 6004 Class E airspace areas designated as an extension to a Class D airspace area.

ANM MT E4 Great Falls International Airport, MT [Revised]

Great Falls International Airport, MT

(Lat. 47°28′55″N, long. 111°22′14″W)

Great Falls VORTAC

(Lat. 47°27′00″N, long. 111°24′44″W)

That airspace extending upward from the surface within 3.1 miles each side of the Great Falls VORTAC 225° radial extending from the 5.5-mile radius of Great Falls International Airport to 8.7 miles southwest of the VORTAC, and within 3.1 miles each side of the Great Falls VORTAC 045° radial extending from the 5.5-mile radius of the airport to 16.6 miles northeast of the VORTAC and that airspace upward from the surface within 4 miles each side of the 164 degree bearing from the Great Falls International Airport extending from the 5.5-mile radius to 13.4 miles south of the airport.

* * * * *

ANM MT E4 Great Falls Malmstrom AFB, MT [Remove]

* * * * *

Issued in Seattle, Washington, on July 6, 2000.
Daniel A. Boyle,
Acting Manager, Air Traffic Division, Northwest Mountain Region.

[FR Doc. 00-18578 Filed 7-21-00; 8:45 am]

BILLING CODE 4910-13-M